DEPARTMENT OF THE INTERIOR

Bureau of Land Management

[LLWY920000 L14300000.FR0000; WYW165139]

Notice of Realty Action, Recreation and Public Purposes Act Classification of Public Lands in Washakie County, WY

AGENCY: Bureau of Land Management, Interior.

ACTION: Notice of Realty Action.

SUMMARY: Under the provisions of the Recreation and Public Purposes (R&PP) Act, as amended, notice is hereby given that the Bureau of Land Management (BLM) has examined and found suitable for classification for conveyance to Washakie County approximately 15 acres of public land in Washakie County, Wyoming. Washakie County proposes to use the land for a septic waste disposal site.

DATES: Interested parties may submit comments regarding the proposed conveyance or classification of the lands until October 4, 2010.

ADDRESSES: Comments should be sent to the Field Manager, Bureau of Land Management, Worland Field Office, 101 South 23rd Street, Worland, Wyoming 82401; or e-mailed to vic_trickey@blm.gov.

FOR FURTHER INFORMATION CONTACT: Victor Trickey, Realty Specialist, BLM, Worland Field Office, 101 South 23rd Street, Worland, Wyoming 82401; (307) 347-5106; or e-mail vic_trickey@blm.gov.

SUPPLEMENTARY INFORMATION: In accordance with Section 7 of the Taylor Grazing Act, (43 U.S.C. 315f), and Executive Order No. 6910, the following described public land in Washakie County, Wyoming, has been examined and found suitable for classification for conveyance under the provisions of the R&PP Act, as amended, (43 U.S.C. 869 et seq.):

Sixth Principal Meridian, Wyoming

T. 47 N., R. 92 W.,

Sec. 22, S½SE¼SE¼NE¼, and SW¼SE¼NE¼.

The land described contains 15 acres, more or less.

In accordance with the R&PP Act, Washakie County filed an application to purchase the above-described 15 acres of public land to be developed for a septic waste disposal site. The lands will accommodate the increased demand in the Worland area for sewage disposal facilities. Additional detailed information pertaining to this application, plan of development, and site plan is in case file WYW165139, located in the BLM Worland Field Office at the above address.

The land is not needed for any Federal purpose. The conveyance is consistent with the Washakie Resource Management Plan, dated September 1988, and would be in the public interest. The patent, if and when issued, will be subject to the provisions of the R&PP Act and applicable regulations of the Secretary of the Interior, including, but not limited to 43 CFR subpart 2743, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe, including all necessary access and exit rights.

The patent will be subject to all valid existing rights documented on the official public land records at the time of patent issuance.

On the date this notice is published in the Federal Register, the lands described above will be segregated from all other forms of appropriation under the public land laws, including the general mining laws, except for conveyance under the R&PP Act, leasing under the mineral leasing laws, and disposals under the mineral material disposal laws.

Classification Comments: Interested parties may submit comments involving the suitability of the lands for a septic waste disposal site. Comments on the classification are restricted to whether the land is physically suited for the proposal, whether the use will maximize the future use or uses of the land, whether the use is consistent with local planning and zoning, or if the use is consistent with State and Federal programs.

Application Comments: Interested parties may submit comments regarding the conveyance and specific uses proposed in the application and plan of development, whether the BLM followed proper administrative procedures in reaching the decision to convey under the R&PP Act, or any other factor not directly related to the suitability of the land for R&PP use.

Before including your address, phone number, email address, or other personal identifying information in your comment, you should be aware that your entire comment—including your personal identifying information—may be made publicly available at any time. While you can ask us in your comment to withhold your personal identifying information from public review, we cannot guarantee that we will be able to do so.

Any adverse comments will be reviewed by the State Director, who may sustain, vacate or modify this realty action. In the absence of any adverse comments, the classification of the land described in this notice will become effective October 19, 2010. The lands will not be available for conveyance until after the classification becomes effective.

(Authority: 43 CFR 2741.5(h))

Donald A. Simpson,
State Director.

[FR Doc. 2010-20668 Filed 8-19-10; 8:45 am]

BILLING CODE 4310-22-P